DEPARTMENT OF THE INTERIOR

Fish and Wildlife Service

[FW-HQ-IA-2016-N098; FXIA16710900000-167-FF09A30000]

Proposed Information Collection; Import of Sport-Hunted African Elephant Trophies

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on November 30, 2016. We may not conduct or sponsor and a person is not required to respond to a collection of information unless it displays a currently valid OMB control number.

DATES: To ensure that we are able to consider your comments on this IC, we must receive them by August 8, 2016.

ADDRESSES: Send your comments on the IC to the Information Collection Clearance Officer, U.S. Fish and Wildlife Service, MS BPHC, 5275 Leesburg Pike, Falls Church, VA 22041-3803 (mail); or hope_grey@fws.gov (email). Please include “1018-0164” in the subject line of your comments.

FOR FURTHER INFORMATION CONTACT: To request additional information about this IC, contact Hope Grey at hope_grey@fws.gov (email) or 703-358-2482 (telephone).

SUPPLEMENTARY INFORMATION:

I. Abstract

On June 6, 2016, we published a final rule (81 FR 36388), Revision of the Section 4(d) Rule for the African Elephant (Loxodonta africana) (4(d) rule). The rule will be effective on July 6, 2016. After that date, permits will be required to import all African elephant trophies (i.e., from both Appendix-I and Appendix-II populations).

When a species is listed as threatened, section 4(d) of the Endangered Species Act (ESA) gives discretion to the Secretary of the Interior to issue regulations that he or she “deems necessary and advisable to provide for the conservation of such species.” In response to an unprecedented increase in poaching of elephants across Africa and the escalation of the illegal trade in ivory, we reevaluated the provisions of the existing ESA 4(d) rule for the African elephant. We revised the 4(d) rule by adopting measures that are necessary and advisable for the current conservation needs of the species, based on our evaluation of the current threats to the African elephant and the comments received from the public. The poaching crisis is driven by demand for elephant ivory. The final rule allows us to more strictly regulate trade in African elephant ivory and to help ensure that the U.S. ivory market is not contributing to the poaching of elephants in Africa.

Currently, import of sport-hunted African elephant trophies from Convention on International Trade in Endangered Species of Wild Fauna and Flora (CITES) Appendix-II populations does not require an ESA threatened species import permit. Applications for permits required under current regulations (for import of African elephant sport-hunted trophies from CITES Appendix-I populations) are approved under OMB Control Number 1018-0093, which expires May 31, 2017. Under the revised rule, permits will be required to import all African elephant sport-hunted trophies from both Appendix-I and Appendix-II populations. As a result of the revised 4(d) rule, we expect to receive an additional 300 applications for permits. The burden associated with these additional applications is the basis of this information collection.

We requested that OMB approve, on an emergency basis, our request to collect information associated with permits to import African elephant sport-hunted trophies from Appendix-II populations. We asked for emergency approval because of the potential negative effects of delaying publication of the final 4(d) rule. OMB approved our request and assigned OMB Control No. 1018-0164, which expires November 30, 2016.

We will ask OMB to grant regular approval (3 years) for this information collection. If OMB grants regular approval, we will include the burden associated with the expected 300 additional applications in OMB Control Number 1018-0093 when we renew the approval in May 2017.

II. Data

OMB Control Number: 1018-0164.

Title: Import of Sport-Hunted African Elephant Trophies, 50 CFR 17.

Service Form Number: 3-200-19.

Type of Request: Extension of a currently approved collection.

Description of Respondents: Individuals.

Respondent's Obligation: Required to obtain or retain a benefit.

Frequency of Collection: On occasion.

Activity | Number of respondents | Number of responses | Completion time per response (minutes) | Total annual burden hours
3-200-9—application to import African elephant trophy from Appendix-II populations | 300 | 300 | 20 | 100
Totals | 300 | 300 |  | 100

Estimated Annual Nonhour Burden Cost: $30,000, primarily associated with application fees. Application fee is $100 per application.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: June 6, 2016.
Tina A. Campbell,
Chief, Division of Policy, Performance, and Management Programs, U.S. Fish and Wildlife Service.

[FR Doc. 2016-13678 Filed 6-8-16; 8:45 am]

BILLING CODE 4333-15-P